SMALL BUSINESS ADMINISTRATION

Request for Comments on Small Business Administration Draft FY 2018-2022 Strategic Plan

AGENCY: Small Business Administration (SBA).

ACTION: Notice and request for comment.

SUMMARY: The Small Business Administration (SBA) is requesting comments on its draft Strategic Plan for fiscal years 2018-2022. The draft plan is available on SBA's Web site at www.sba.gov/about-sba/sba_performance/strategic_planning.

DATES: Comments must be received on or before Thursday, November 30, 2017 to be assured for consideration.

ADDRESSES: You may submit comments by the following methods (Please send comments by one method only):

Email: Address to StrategicPlan@SBA.gov. Include “Comments on SBA FY 2018-2022 Strategic Plan” in the email subject line.

Mail: Address to Jason Bossie, Director, Office of Performance Management, US Small Business Administration, Office of Performance Management and the Chief Financial Officer, 409 3rd St. SW., Suite 6000, Washington, DC 20416

Hand/Delivery/Courier: Same as mail address.

FOR FURTHER INFORMATION CONTACT: Luan Loerch-Wilson, Lead Performance Analyst, Small Business Administration at Luan.Loerch-Wilson@SBA.gov.

SUPPLEMENTARY INFORMATION: The draft Small Business Administration FY 2018-2022 Strategic Plan is provided for public input as part of the strategic planning process under the Government Performance and Results Modernization Act of 2010 (GPRA-MA) (Pub. L. 111-352) to ensure that the public and stakeholders are provided an opportunity to comment. This Strategic Plan provides a framework that will support greater efficiency, effectiveness, and accountability of SBA's programs while leveraging partnerships across the government and private sector to maximize the tools small business owners and entrepreneurs need to strengthen our economy, drive American innovation, and increase global competitiveness.

The SBA proposes four strategic goals for the next five years: (1) Support small business revenue and job growth; (2) Build healthy entrepreneurial ecosystems and create business-friendly environments; (3) Restore small businesses and communities after disasters; and, (4) Strengthen the SBA's ability to serve small businesses.

The draft SBA FY 2018-2022 Strategic Plan is available through the SBA's Web site at www.sba.gov/about-sba/sba_performance/strategic_planning.

Tim Gribben,
Chief Financial Officer and Associate Administrator for Performance Management.

[FR Doc. 2017-23678 Filed 10-30-17; 8:45 am]

BILLING CODE P